DEPARTMENT OF LABOR

Occupational Safety and Health Administration

[Docket No. OSHA-2009-0025]

UL LLC: Application for Expansion of Recognition

AGENCY: Occupational Safety and Health Administration (OSHA), Labor.

ACTION: Notice.

SUMMARY: In this notice, OSHA announces the application of UL LLC, for expansion of the scope of recognition as a Nationally Recognized Testing Laboratory (NRTL) and presents the agency's preliminary finding to grant the application.

DATES: Submit comments, information, and documents in response to this notice, or requests for an extension of time to make a submission, on or before August 31, 2023.

ADDRESSES: Comments may be submitted as follows:

Electronically: You may submit comments, including attachments, electronically at: http://www.regulations.gov, the Federal eRulemaking Portal. Follow the online instructions for submitting comments.

Instructions: All submissions must include the agency's name and the docket number for this rulemaking (Docket No. OSHA-2009-0025). All comments, including any personal information you provide, are placed in the public docket without change and may be made available online at https://www.regulations.gov. Therefore, OSHA cautions commenters about submitting information they do not want made available to the public, or submitting materials that contain personal information (either about themselves or others), such as Social Security numbers and birthdates.

Docket: To read or download comments or other material in the docket, go to http://www.regulations.gov. Documents in the docket (including this Federal Register notice) are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Extension of comment period: Submit requests for an extension of the comment period on or before August 31, 2023 to the Office of Technical Programs and Coordination Activities, Directorate of Technical Support and Emergency Management, Occupational Safety and Health Administration, U.S. Department of Labor, 200 Constitution Avenue NW, Room N-3653, Washington, DC 20210.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2300 or email: robinson.kevin@dol.gov.

SUPPLEMENTARY INFORMATION:

I. Notice of the Application for Expansion

OSHA is providing notice that UL LLC (UL), is applying for an expansion of current recognition as a NRTL. UL requests the addition of 42 test sites to its NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition, as well as for an expansion or renewal of recognition, following requirements in Appendix A to 29 CFR 1910.7. This appendix requires that the agency publish two notices in the Federal Register in processing an application. In the first notice, OSHA announces the application and provides the preliminary finding. In the second notice, the agency provides the final decision on the application. These notices set forth the NRTL's scope of recognition or modifications of that scope. OSHA maintains an informational web page for each NRTL, including UL, which details that NRTL's scope of recognition. These pages are available from the OSHA website at http://www.osha.gov/dts/otpca/nrtl/index.html.

UL currently has 13 facilities (sites) recognized by OSHA for product testing and certification, with the headquarters located at: UL LLC, 333 Pfingsten Road, Northbrook, Illinois 60062. A complete list of UL's scope of recognition is available at https://www.osha.gov/nationally-recognized-testing-laboratory-program/ul.

II. General Background on the Application

UL submitted an application, dated January 20, 2021 (OSHA-2009-0025-0050), requesting the conversion of 42 existing Satellite Notification Acceptance Program (SNAP) sites to recognized sites under the NRTL Policy for Transitioning to Satellite Notification and Acceptance Program Termination (SNAP Transition Policy) published in the Federal Register on November 24, 2020 (85 FR 75042), as amended by a June 22, 2022 Memorandum from James S. Frederick, Deputy Assistant Secretary for Occupational Safety and Health, to Regional Administrators and Executive Staff, titled “Second Revision to the Nationally Recognized Testing Laboratory (NRTL) Policy for Transitioning to Satellite Notification and Acceptance Program (SNAP) Termination.”

Table 1 below, lists the 42 sites that UL's application requested for inclusion in the NRTL's expanded scope of recognition:

Table 1—List of Test Sites To Be Included in UL's NRTL Scope of Recognition
UL site name | Address | Country
Auckland | 54 Tarndale Grove, 106 Bush Road Unit 1, Block 1, Albany, Auckland, New Zealand 0632 | New Zealand.
Bangalore | 3rd Floor, Block 1, No. 24, Kalyani Platina, EPIP Zone, Phase II, Bangalore, Karnataka 560066, India | India.
Barcelona | C/Caravel-la la Nina 12, 3 Planta 08017, Barcelona, Spain 08017 | Spain.
Milan | Via Europa 5/7/9 & 28, Cabiate-CO, Milan, Italy 22060 | Italy.
Changzhou | No. 21 Longmen Road, National High-Tech, Industrial Development District, Wujin, Changzhou, Jiangsu, China 213614 | China.
Plano | 801 Klein Road, Suite 200, Plano, Texas 75074 | United States.
Dubai | Premises 222-224, 2nd Floor, DSP Laboratory Complex, Dubai Science Park, Al Barsha, Dubai, 345831 United Arab Emirates | United Arab Emirates.
Edmonton | 1040 Parsons Road SW, Edmonton, Alberta, Canada T6X 0J4 | Canada.
Fremont | 47173 Benicia Street, Fremont, California 94538 | United States.
Holland | 3480 Windquest Drive, Holland, Michigan 49424 | United States.
Gurugram | A-12 Section 34, Infocity-1, Gurugram, Haryana India 122001 | India.
Istanbul | Gursel Mah. Yesiltepe Sok No. 34, ERG Is Merkezi 80260 Kat 3&6, Instanbul, Turkey 34400 | Turkey.
Singapore | 20 Kian Teck Lane, Singapore 627 854 | Singapore.
Basingstoke | Units 1-4, Horizons, Wade Road, Kingsland Business Park, Basingstoke, Hampshire, United Kingdom RG24 8AH | United Kingdom.
Brea | 1075 West Lambert Road, Suite B, Brea, California 92821 | United States.
Subang Jaya | Suite 9.01, Level 9, Menara Summit, Persiaran Kewajipan, USJ 1, UEP, Subang Jaya, Selangor, Malaysia | Malaysia.
Mexico City | Blas Pascal 205 Piso 3, Polanco I Seccion, Mexico City, Mexico 11510 | Mexico.
Mounds View | 2222 Woodale Drive, Mounds View, Minnesota 55112 | United States.
Montreal | 6505 Trans-Canada Highway, Suite 330, St. Laurent, Quebec, Canada, H4T1S3 | Canada.
Mumbai | Patina Block no 102, 1st Floor, C-59, G-Block, Mumbai, India 400 051 | India.
Munich | Hopfenstrasse 6, Munich, Germany 80335 | Germany.
Guangzhou | 1-3F, Building 2 (R&D Building A1), No. 25, South Huanshi Avenue, Nansha District, Guangzhou, Guangdong Sheng, China 511458 | China.
Guangzhou | Block B, Electronic Building, No. 8, Nanyun Er Road, Hangpu District, Guangzhou, China 510670 | China.
Warsaw | Rownolegla 4, Warsaw, Poland 02-235 | Poland.
Queretaro | Module K1 Unit 6 & 7, Kaizen Industrial Park, State Road 100, KM, 8+820, Colonia Galeras, Colon Municipality, Queretaro 76295 Mexico | Mexico.
Rosenheim | Am Oberfeld 19, Rosenheim, Germany 83026 | Germany.
Saint Aubin | Espace Technologique, De Saint-Aubins, Baitmont Explorer, Route de L'Orme des Mersies, Saint Aubin, France 91190 | France.
Sao Paulo | Av. Engenheiro Luis, Carlos Berrini, 105, 23th Floor, Brooklin, Sao Paulo, Brazil 0451-010 | Brazil.
Shanghai | 29 F, Wheelock Square, No. 1717 West Nanjing Road, Shanghai, China 200040 | China.
Suzhou | No. 2, Chengwan Road, Suzhou Industrial Park, Suzhou, Jiangsu, China 215122 | China.
Taoyuan | No. 2 Wenming 1st Street, Guishan District, Taoyuan, Taiwan 333 | Taiwan.
Samutprakarn | 888 Moo 5, Srinakarin Road, Tambol Samrong Nua, Amphur Muang Samutprakarn, 10270 | Thailand.
Tokyo | 6F, Marunouchi Trust Tower, 1-8-3 Marunouchi, Chiyoda-ku, Tokyo, Japan 100-0005 | Japan.
Krefeld-Uerdingen | Rheinufestr. 7—9 Building R33, Krefeld-Uerdingen, Germany, 47829 | Germany.
Bayrakli—Izmir | Adlet Mah. Sehit Polis, Fethi Sekin Cad. Ventus Tower No: 6, Ic Kapi No: 241, Bayrakli-Izmir, Turkey 35530 | Turkey.
Beijing | 11/F, Tower W3, Oriental Plaza, No. 1, East Chang'an Avenue, Dongcheng District, Beijing, China 100738 | China.
Richmond | #130-137775, Commerce Parkway, Richmond, British Columbia, V6V2V4 Canada | Canada.
Vancouver | 14301 SE 1st Street, Suite 140, Vancouver, Washington 98684 | United States.
Warrington | 220 Cygnet Court, Centre Park, Warrington, Chesire, WA1 1PP, United Kingdom | United Kingdom.
Kwai Chung N.T. | 19F, Watson Centre, 16-22 Kung Yip Street, Kwai Chung N.T. Hong Kong | Hong Kong.
Xiamen | 17/F, The Bank Centre, No. 189 Xxiahe Road, Xiamen, China 361004 | China.
Zhongshan | Block C, C101-102 &, C202-202, No.8, Jinsan Avenue East, Sanjiao Town, Zhongshan, China 528445 | China.

OSHA has preliminarily determined that it is appropriate to review this application under the SNAP Transition Policy. UL's application was timely submitted under that policy, and OSHA preliminarily finds that the SNAP sites in UL's application met all other preconditions of eligibility for conversion to recognized sites under the policy (See SNAP Transition Policy, part III 1.a-g, 85 FR at 75047). OSHA also preliminarily decided that it was not necessary to conduct on-site reviews in connection with UL's expansion application, based on historical assessment records and supporting documentation submitted by UL. Moreover, OSHA staff performed assessments of several UL facilities included in the SNAP conversion application from June 2020 to November 2022, and, while assessors found some nonconformances with the requirements of 29 CFR 1910.7, UL addressed these issues sufficiently. OSHA staff has preliminarily determined that OSHA should grant the application and grant recognition to the 42 sites requested in the application.

III. Preliminary Finding on the Application

UL submitted an acceptable application for expansion of its scope of recognition. OSHA's review of the application file and pertinent documentation indicates that UL can meet the requirements prescribed by 29 CFR 1910.7 for expanding its recognition to include the addition of the 42 additional test sites for NRTL testing and certification. This preliminary finding does not constitute an interim or temporary approval of UL's application.

OSHA seeks public comment on this preliminary determination.

IV. Public Participation

OSHA welcomes public comment as to whether UL meets the requirements of 29 CFR 1910.7 for expansion of recognition as a NRTL. Comments should consist of pertinent written documents and exhibits.

Commenters needing more time to comment must submit a request in writing, stating the reasons for the request by the due date for comments. OSHA will limit any extension to 10 days unless the requester justifies a longer time period. OSHA may deny a request for an extension if it is not adequately justified.

To review copies of the exhibit identified in this notice, as well as comments submitted to the docket, contact the Docket Office, Occupational Safety and Health Administration, U.S. Department of Labor. These materials also are generally available online at https://www.regulations.gov under Docket No. OSHA-2009-0025 (for further information, see the “Docket” heading in the section of this notice titled ADDRESSES).

OSHA staff will review all comments to the docket submitted in a timely manner. After addressing the issues raised by these comments, staff will make a recommendation to the Assistant Secretary of Labor for Occupational Safety and Health on whether to grant UL's application for expansion of the scope of recognition. The Assistant Secretary will make the final decision on granting the application. In making this decision, the Assistant Secretary may undertake other proceedings prescribed in Appendix A to 29 CFR 1910.7.

OSHA will publish a public notice of the final decision in the Federal Register.

IV. Authority and Signature

James S. Frederick, Deputy Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393; Sept. 18, 2020), and 29 CFR 1910.7.

Signed at Washington, DC, on August 9, 2023.
James S. Frederick,
Deputy Assistant Secretary of Labor for Occupational Safety and Health.

[FR Doc. 2023-17534 Filed 8-15-23; 8:45 am]

BILLING CODE 4510-26-P